DEPARTMENT OF TRANSPORTATION

Federal Railroad Administration

[Docket Number FRA-2014-0048]

Petition for Extension of Waiver of Compliance

Under part 211 of title 49 Code of Federal Regulations (CFR), this document provides the public notice that on October 14, 2024, and December 13, 2024, Union Pacific Railroad Company (UP) petitioned the Federal Railroad Administration (FRA) for an extension of a waiver of compliance from certain provisions of the Federal railroad safety regulations contained at 49 CFR parts 215 (Railroad Freight Car Safety Standards), 229 (Railroad Locomotive Safety Standards), and 232 (Brake System Safety Standards for Freight and Other Non-Passenger Trains and Equipment; End-of-Train Devices). The relevant Docket Number is FRA-2014-0048.

Specifically, UP seeks an extension of relief from part 215, § 229.21, Daily inspection, and § 232.205(a)(1), Class I brake test—initial terminal inspection, to move freight cars received in interchange from Ferrocarriles Nacionales de Mexico at the International Yard on the Lordsburg Subdivision in El Paso, Texas, to Dallas Street Yard (for westbound traffic) or Alfalfa Yard (for eastbound traffic). The required inspections are conducted at these yards, which are 2.8 and 7 miles from the International Yard, respectively. In its petition, UP notes that the territory between International Yard and Dallas Street and Alfalfa Yards “traverses through a residential area with multiple public grade crossings[,] which also handle heavy pedestrian traffic.” Additionally, UP requests to expand the relief in this docket to permit it to move trains to Santa Teresa, New Mexico, a distance of 20.5 miles.

In support of its petition, UP states that the movement “expedit[es] any delays caused by port of entry inspections and allow[s] a more efficient use of the bridge window.” UP adds that completing inspections and testing of equipment at the Dallas and Alfalfa Yards is “safer/more secure than attempting it on the bridge precisely at the US border line,” as the infrastructure of the Dallas and Alfalfa facilities “supports inspections, and repair associated activities, including switching out bad orders, safer and better than other upstream properties.” Finally, UP notes that the relief avoids “unnecessary public disruptions within the city of El Paso, [Texas], including, but not limited to, excessively blocked crossings” as well as “alleviates undue additional locomotive emissions from excessive idling times.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by February 25, 2025 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-31061 Filed 12-26-24; 8:45 am]

BILLING CODE 4910-06-P